DEPARTMENT OF ENERGY

Federal Energy Regulatory Commission

Notice of Issuance of Staff Report on Ideas for Better Stakeholder Involvement

December 18, 2001.

The staff of the Office of Energy Projects has issued a revised version of its report entitled: “Ideas For Better Stakeholder Involvement In The Interstate Natural Gas Pipeline Planning Pre-Filing Process.” The report has been revised based on feedback received at Sixth Interstate Natural Gas Facility-Planning Seminar held on October 26, 2001.

The report can be downloaded from the FERC Web site at www.ferc.gov or requested by E-mail at: gas outreach-feedback@ferc.fed.us.

As discussed at the October 26 meeting, the staff is in the process of planning a series of workshops to bring interstate natural gas companies and Federal, state and local agency representatives, and landowners together to discuss implementation of stakeholder involvement programs. The workshops will be organized in a way to provide opportunities to present and discuss case-studies of efforts taken by interstate pipeline companies which highlight the various challenges and successes of getting people involved in the pipeline planning process before the applications are filed. Future notices will announce the format, dates and locations of the workshops.

If you have any questions, please contact Richard Hoffmann at 202/208-0066 or Lauren O'Donnell at 202/208-0325.

J. Mark Robinson,
Director, Office of Energy Projects.

[FR Doc. 01-31599 Filed 12-21-01; 8:45 am]

BILLING CODE 6717-01-P